ENVIRONMENTAL PROTECTION AGENCY

[FRL-8915-2]

Request for Nominations to the National and Governmental Advisory Committees to the U.S. Representative to the Commission for Environmental Cooperation

AGENCY: Environmental Protection Agency.

ACTION: Notice of request for nominations.

SUMMARY: The U.S. Environmental Protection Agency (EPA) is inviting nominations from a diverse range of qualified candidates to be considered for appointment to fill vacancies on the National Advisory Committee (NAC) and the Governmental Advisory Committee (GAC) to the U.S. Representative to the Commission for Environmental Cooperation (CEC). Vacancies on these two committees are expected to be filled by fall 2009. We encourage nominations to be submitted as soon as possible. Additional sources may be utilized in the solicitation of nominees.

SUPPLEMENTARY INFORMATION: The National Advisory Committee and the Governmental Advisory Committee advise the EPA Administrator in her capacity as the U.S. Representative to the CEC Council. The committees are authorized under Articles 17 and 18 of the North American Agreement on Environmental Cooperation (NAAEC), the North American Free Trade Agreement (NAFTA) Implementation Act, Public Law 103-182, and as directed by Executive Order 12915, entitled “Federal Implementation of the North American Agreement on Environmental Cooperation.” The committees are responsible for providing advice to the United States Representative on a wide range of strategic, scientific, technological, regulatory and economic issues related to implementation and further elaboration of the NAAEC. The National Advisory Committee consists of 12 representatives from environmental non-profit groups, business and industry, and educational institutions. The Governmental Advisory Committee consists of 12 representatives from State, local, and tribal governments. Members are appointed by the EPA Administrator for a two-year term. The committees usually meet 3 times per year and the average workload for committee members is approximately 10 to 15 hours per month. Members serve on the committees in a voluntary capacity. However, EPA provides reimbursement for travel expenses associated with official government business. Nominees will be considered according to the mandates of the Federal Advisory Committee Act, which requires committees to maintain diversity across a broad range of constituencies, sectors, and groups. The following criteria will be used to evaluate nominees:

• Extensive professional knowledge of the subjects examined by the committees, including trade and environment issues, the NAFTA, the NAAEC, and the CEC.

• Represent a sector or group involved in trilateral environmental policy issues.

• Senior-level experience in the sectors represented on both committees.

• A demonstrated ability to work in a consensus building process with a wide range of representatives from diverse constituencies.

Nominations must include: (1) Cover letter, (2) resume describing the professional and educational qualifications of the nominee, (3) the nominee's current business address, e-mail address and daytime telephone number. Interested candidates may self nominate.

ADDRESSES: Submit nominations to: Oscar Carrillo, Designated Federal Officer, Office of Cooperative Environmental Management, U.S. Environmental Protection Agency (1601-M), 1200 Pennsylvania Avenue, NW., Washington, DC 20460.

FOR FURTHER INFORMATION CONTACT: Oscar Carrillo, Designated Federal Officer, U.S. Environmental Protection Agency (1601-M), Washington, DC 20460; telephone (202) 564-0347; fax (202) 564-8129; e-mail carrillo.oscar@epa.gov.

Dated: June 1, 2009.
Oscar Carrillo,
Designated Federal Officer.

[FR Doc. E9-13488 Filed 6-8-09; 8:45 am]

BILLING CODE 6560-50-P